CORPORATION FOR NATIONAL AND COMMUNITY SERVICE

Notice of Availability of Funds To Support Service-related Activities of Former AmeriCorps Members

AGENCY: Corporation for National and Community Service.

ACTION: Notice of availability of funds.

SUMMARY: The Corporation for National and Community Service (the Corporation) will use up to $100,000 to enter into a cooperative agreement under subtitle H of the National and Community Service Act of 1990, as amended, to support efforts to: (1) Conduct outreach to former AmeriCorps members to support their participation in service activities with current AmeriCorps members and (2) develop and implement strategies to enable former and current AmeriCorps members to receive additional education credits and benefits for their service.

DATES: All proposals must arrive at the Corporation for National Service no later than 5:00 p.m., Eastern Daylight Time, January 23, 2001. The Corporation anticipates announcing its selection under this announcement no later than February 2, 2001.

ADDRESSES: Proposals must be submitted to the Corporation at the following address: Corporation for National and Community Service, Attn: Susannah Washburn, 1201 New York Avenue NW., Washington, DC 20525. This notice may be requested in an alternative format for the visually impaired.

FOR FURTHER INFORMATION CONTACT: For further information, or to obtain an application, contact Shelly Ryan at (202) 606-5000, ext. 549, or TDD: 202-565-2799, or TTY via the Federal Information Relay Service at (800) 877-8339.

SUPPLEMENTARY INFORMATION:

Background

The Corporation is a federal government corporation that encourages Americans of all ages and backgrounds to engage in community-based service to meet the nation's educational, public safety, environmental and other human needs. In doing so, the Corporation fosters civic responsibility, strengthens the ties that bind us together as a people, and provides educational opportunity for those who make a substantial commitment to service. This year, the Corporation will support over 40,000 AmeriCorps members who perform substantial service in communities across the country and over one million students in service-learning programs, including programs at institutions of higher education. Since its inception in 1993, including the current class in service, more than 200,000 individuals have enrolled in AmeriCorps.

Under subtitle H of the National and Community Service Act, the Corporation may support innovative and model programs.

Under this authority the Corporation is now making available up to $100,000 for the purpose of supporting efforts to conduct outreach to former AmeriCorps members to support their engaging in service activities with current AmeriCorps members and to identify and encourage model programs at institutions of higher education to enable former and current AmeriCorps members to receive additional education credits and benefits for their service.

The Corporation anticipates making a single award to an organization that has the capacity and experience to carry out the purposes described below. The award is anticipated to be for a 12-month period, with a suggested start date of February 1, 2001. Applicants should specify the period and start date.

Purpose of Cooperative Agreement

Among the program objectives under the National and Community Service Act are: to encourage each participant to engage in public and community service after completion of the program and to expand educational opportunity by rewarding individuals who participate in national service with increased ability to pursue higher education.

Many individual programs in which AmeriCorps members participate conduct activities that accomplish these objectives. For example, individual programs invite former members to serve with current members on national days of service such as Martin Luther King, Jr. Day. Further, several programs in which AmeriCorps members serve are sponsored by organizations that partner with an institution of higher education to offer credit for service in AmeriCorps or scholarships to attend school based on service in AmeriCorps.

Although many local activities occur, there is a need for support for more systematic nationwide support to enhance local activities. For example, there is no single place where a prospective, current, or former AmeriCorps member may go to learn education opportunities and benefits at institutions of higher education that are linked directly to service in AmeriCorps. Further, there is no nationwide effort to reach out to alumni to support their involvement specifically in all AmeriCorps gatherings held by state commissions across the country.

The purpose of this cooperative agreement is to support activities that reach across states and individual programs that will serve to support alumni's engaging in service activities with current AmeriCorps members and to identify and encourage efforts to enable former and current AmeriCorps members to receive additional education credits and benefits for their service.

Eligible Applicants

Eligible applicants for this funding are nonprofit organizations with experience in promoting the involvement of AmeriCorps alumni in service activities nationwide. An organization described in section 501(c)(4) of the Internal Revenue Code of 1986 26 U.S.C. 501(c)(4), that engages in lobbying activities, is not eligible to be a grantee. Based on the requirements for applicants and the number of agreements to be awarded under this notice, the Corporation expects fewer than ten applications to be submitted.

Types of Activities

The following are examples of the types of activities that the cooperative agreement may support. The applicant may choose to propose one or more of the following or propose additional activities consistent with the purposes described above.

• Development and dissemination of a directory of higher education programs for current members and alumni that offer special programs, credit, or financial assistance for those currently or formerly engaged in AmeriCorps activities.

• Outreach efforts to consortia of institutions of higher education to link service in AmeriCorps more closely with academic programs at institutions of higher education.

• Outreach efforts to support the mobilization of alumni to participate in All AmeriCorps gatherings and other service events that link current and former members in carrying out service to their communities.

• Technical assistance to state commissions and other entities that will support carrying out high quality all-member gatherings within a state, including the involvement of former members serving in that state.

The above are examples only; the applicant should propose the best strategies for carrying out the purposes described above.

Application Requirements

To be considered for funding, eligible applicants should submit the following:

1. An Application for Federal Assistance (SF 424).

2. Budget Information—Non-Construction Programs (SF 424A).

3. A Budget Narrative that provides a description of the budget form. It may be easier to complete the budget narrative first, using the line items on the SF 424A as a guide. The budget narrative should be in the same order as the budget form with requested Corporation funds clearly defined. For each of the line items contained on the budget form, provide a full explanation in the budget narrative that explains the item, its purpose, and shows how you calculated the cost.

4. Assurances—Non-Construction Programs (SF 424B).

5. A Program Narrative (no more than 15 pages) that includes:

a. The organization's background and capacity to provide sound programmatic and fiscal oversight, including any experience in administering federal grants.

b. A description of the organization's experience in promoting the involvement of AmeriCorps alumni in service activities.

c. The organization's plan for meeting the purposes of this grant, including: the activities to be conducted, the outcomes of those activities, and proposed timelines for all activities and outcomes.

d. Description of resources available to manage this grant.

Applicants must submit one unbound, original proposal and two copies to the Corporation at the following address: Corporation for National and Community Service, Attn: Susannah Washburn, 1201 New York Avenue NW., Washington, D.C. 20525. We will not accept any proposals submitted by facsimile.

Copies of the SF 424, SF 424A, and SF 424 B can be obtained at the following website: http://fillform.gsa.gov/. For a printed copy of any of these materials, please contact Shelly Ryan at (202) 606-5000, ext. 549.

Selection Process and Criteria

In awarding these grants, the Corporation will consider program design (60%); organizational capacity (25%); and budget/cost effectiveness (15%). Applicants must propose clearly-defined and specific activities to carry out the purposes of this grant. The Corporation will make all final decisions concerning the award and may require revisions to the original grant proposal in order to achieve the objectives under this Notice.

(Catalog of Federal Domestic Assistance #94.007.
Dated: December 21, 2000.
Gary Kowalczyk,
Coordinator, National Service Programs, Corporation for National and Community Service.

[FR Doc. 00-33275 Filed 12-28-00; 8:45 am]

BILLING CODE 6050-28-P